DEPARTMENT OF AGRICULTURE

Forest Service

Six Rivers National Forest, California; Orleans Community Fuels Reduction and Forest Health Project

AGENCY: Forest Service, USDA.

ACTION: Notice of intent to prepare an environmental impact statement.

SUMMARY: The Six Rivers National Forest proposes to address hazardous fuels and forest health concerns through the Orleans Community Fuels Reduction and Forest Health (OCFR) Project, under the Healthy Forest Restoration Act. The area affected by the proposal includes National Forest System lands surrounding the community of Orleans, California, which includes Tribal Trust Lands and portions of the Panamnik World Renewal Ceremonial District. The objective of these treatments is to provide strategic suppression locations across the landscape while reducing contiguous fuel accumulations and chance of catastrophic fires. Approximately 2,721 acres of forest would be treated by either ground-based, skyline, or hand systems.

The planning area is located on National Forest System lands administered by the Orleans Ranger District in Humboldt County, California, specifically, within the upper tributaries of the Lower Middle Klamath watersheds. The units are located in portions of: T. 10 N., R. 5 E., Sections 1, 12, 13; T. 10 N., R. 6 E., Sections 4-9, 16-17; T. 11 N., R. 5 E., Sections 1, 12, 13, 24, 25, 36; and T. 11 N., R. 6 E., Sections 4-9, 16-21, and 28-33.

DATES: Comments concerning the scope of the analysis must be received by November 19, 2007. The draft environmental impact statement is expected February 2008 and the final environmental impact statement is expected May 2008.

ADDRESSES: Send written comments to Bill Rice, at Orleans Ranger District, P.O. Drawer 410, Orleans, CA 95556, or phone (530) 627-3291. Comments may be submitted by e-mail in Word (.doc), rich text format (.rtf), text (.txt), and hypertext markup language (.html) to comments-pacificsouthwest-six-rivers-orleans@fs.fed.us. Comments may also be hand delivered weekdays 8 a.m.-4:30 p.m. at the Orleans Ranger District Office.

FOR FURTHER INFORMATION CONTACT: Bill Rice, at Orleans Ranger District, phone (530) 627-3291 (see address above). More information is available at http://www.fs.fed.us/r5/sixrivers/projects/ea/ocfr/.

SUPPLEMENTARY INFORMATION:

Purpose and Need for Action

The purpose of this initiative is to provide strategic fire suppression locations across the landscape while reducing contiguous fuel accumulations and chance of catastrophic fire to the community of Orleans and Tribal Trust Lands. This action is needed because decades of fire suppression and loss of cultural burning in these fire-adapted forests has significantly changed species composition, tree density, stand structure, and surface and ladder fuels. This action responds to the goals and objectives outlined in the Six Rivers Forest Plan, and helps move the project area towards desired conditions described in that plan (Six Rivers National Forest Land and Resource Management Plan 1995 (Forest Plan)). Specifically, there is a need: (1) To reduce hazardous fuel conditions and impacts from wildfires to the community of Orleans, Tribal Trust Lands, and the immediately surrounding forest; and create conditions that produce less than four foot flame lengths (FP, p. IV-116); (2) To enhance cultural values associated with the Panamnik World Renewal Ceremonial District through forest health and a reduction of fuels (FP, p. IV-114); (3) To reduce stand densities (FP, p. IV-77); (4) To promote the development and maintenance of diverse stand structures and species composition (FP, p. IV-73) and; (5) To begin steps to restore fire-adapted ecosystem functions, such that when fire returns to the ecosystem impacts are minimized (FP, p. IV-116).

In addition, there is an opportunity to manage vegetation within portions of the Riparian Reserves to accelerate the development of late-successional forest characteristics in overstocked early mature seral stands. The application of stocking level control in these stands would accelerate the attainment of desired vegetation characteristics in Riparian Reserves (LRMP IV-49). Attainment of desired vegetation characteristic is part of the Aquatic Conservation Strategy goals of maintaining and restoring the species and structural diversity of plant communities within the Reserves (LRMP IV-108).

Proposed Action

The action proposed by the Forest Service to meet the purpose and need is to reduce fuel accumulations on approximately 2,721 acres of forest by chipping and/or mastication, understory burning, hand piling, jack-pot/pile burning, or removal off site. In forest stands that need thinning to reduce fuels, end-line, ground-based, hand, and/or skyline/cable-logging systems would be used. Potential fire impacts would be reduced in fuel reduction zones along key ridges and other key locations adjacent and within the Orleans Community. Implementation of the proposed action activities would occur over the next five to ten years as funding allows and grants are obtained. Implementation funds would come from a variety of sources such as grants, appropriated funds, and community partnerships.

Proposed vegetation treatments would reduce the density of understory, low- to mid-canopy-level trees, and codominates, while promoting the development of large trees. Some canopy-level thinning would occur to promote the growth of mast-producing hardwoods and diverse forest structures. Canopy thinning by selective whole tree removal would occur in a few select places to provide clear visibility from viewpoints associated with spiritual activities.

Some selective thinning within portions of Riparian Reserves would be accomplished through a combination of skyline yarding, tractor yarding, and hand thinning. In the case of tractor thinning, yarding of trees would be accomplished through end-lining of selected trees without heavy equipment entering Riparian Reserves. No stream crossings would occur. No other road activities would occur in Riparian Reserves. In previously unmanaged natural stands growing on moderate or better quality sites a minimum of 60 percent average canopy closure would be maintained after initial thinning and fuels treatments. Sawlogs that are removed during treatments (an estimate of 7 to 10 mmbf of initial volume) would also be sold as a by-product of forest health treatments. No commercial harvest would occur in old-growth stands.

In a few areas, accessible only by foot, surface and understory ladder fuels on federal lands adjacent to private property would be cut and treated by hand, within a 300-foot buffer. No commercial harvesting or road construction would occur in these areas. To implement this project and plan for future resource management needs, approximately 2.1 miles would be constructed and added to the forest road system. Of these, 1.2 miles would be roads constructed on undisturbed ground and 0.9 miles would be constructed on an existing alignment. Approximately 4.6 miles of temporary roads would be constructed for this project. Of these, three miles would be constructed on undisturbed ground and 1.6 miles would be on existing alignment. An existing temporary road, located in the Riparian Reserves, would be decommissioned. All temporary roads created for the project are located outside of Riparian Reserves and would be decommissioned after use. A project specific Roads Analysis has also been completed for this project.

Log landings would be used for skyline and tractor logging, and for decking and disposal of forest residues. Approximately, 19 new disposal sites and 54 new landings and/or disposal sites would be created. Approximately 94 existing landings may require minor earthwork to expand dimensions and minor clearing and/or blading. Landings would vary in size from ¼ to ½ acre in size. In addition, hazard trees along the haul routes would be felled and removed during implementation of the project. Hazard trees felled within Riparian Reserves would remain on-site. Water would be collected from existing sources.

Responsible Official

Tyrone Kelley, Forest Supervisor, Six Rivers National Forest, 1330 Bayshore Way, Eureka, CA 95501.

Nature of Decision To Be Made

Whether to proceed under the proposed action or action as modified will be decided by the responsible official.

Scoping Process

The OCFR Project original proposed action was released for public scoping February 13, 2007. Based on public feedback during scoping and seven public field trips, the Forest Service has a new proposed action and is repeating the scoping and comment period.

Permits or Licenses Required

Road encroachment permit(s) may be needed from Humboldt County Roads Department for new road intersections and potential logging on County roads—Ishi Pishi, Bark Shanty, and Red Cap.

Comment Requested

This notice of intent initiates the scoping process and comment period which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: October 12, 2007.
Tyrone Kelley,
Forest Supervisor.

[FR Doc. E7-20547 Filed 10-17-07; 8:45 am]

BILLING CODE 3410-11-P